NATIONAL CREDIT UNION ADMINISTRATION

Notice of Meetings; Sunshine Act

TIME AND DATE: 10 a.m., Thursday, November 15, 2001.

PLACE: Board Room, 7th Floor, Room 7047, 1775 Duke Street, Alexandria, VA 22314-3428.

STATUS: Open.

MATTERS TO BE CONSIDERED: 1. Request from a Federal Credit Union to Convert to a Community Charter.

2. request from a Federal Credit Union to Expand its Community Charter.

3. Request from a Federal Credit Union to Add an Underserved Area to its Field of Membership.

4. Maryland Member Business Loan Rule.

5. Request from a Corporate Federal Credit Union for a Waiver under Part 704 of NCUA's Rules and Regulations.

6. NCUA Operating Budget for 2002-2003.

7. NCUA Overhead Transfer Rate for 2002.

8. NCUA Operating Fee Scale for 2002.

9. Petition for a Rulemaking on the Overhead Transfer Rate.

10. Final Rule: Part 742 and Amendment to Part 722, NCUA's Rules and Regulations, Regulatory Flexibility Program.

RECESS: 11:30 a.m.

TIME AND DATE: 12:30 p.m., Thursday, November 15, 2001.

PLACE: Board Room, 7th Floor, Room 7047, 1775 Duke Street, Alexandria, VA 22314-3428..

STATUS: Closed..

MATTERS TO BE DISCUSSED: 1. Administrative Action under Part 709 of NCUA's Rules and Regulations. Closed pursuant to exemptions (6) and (8).

2. One (1) Personnel Matter. Closed pursuant to exemptions (2) and (6)

FOR FURTHER INFORMATION CONTACT: Becky Baker, Secretary of the Board, Telephone 703-518-6304.

Becky Baker,
Secretary of the Board.

[FR Doc. 01-28576 Filed 11-8-01; 5:09 pm]

BILLING CODE 7535-01-M